DEPARTMENT OF THE TREASURY

Submission for OMB Review; Comment Request

May 21, 2013.

The Department of the Treasury will submit the following information collection requests to the Office of Management and Budget (OMB) for review and clearance in accordance with the Paperwork Reduction Act of 1995, Public Law 104-13, on or after the date of publication of this notice.

DATES: Comments should be received on or before July 26, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0043.

Type of Review: Extension without change of a currently approved collection.

Title: Consent of Shareholder to Include Specific Amount in Gross Income.

Form: 972.

Abstract: Form 972 is filed by shareholders of corporations to elect to include an amount in gross income as a divided. The IRS uses Form 972 as a check to see if an amended return is filed to include the amount in income and to determine if the corporation claimed the correct amount.

Affected Public: Individuals or Households.

Estimated Annual Burden Hours: 385.

OMB Number: 1545-0044.

Type of Review: Extension without change of a currently approved collection.

Title: Corporation Claim for Deduction for Consent Dividends.

Form: 973.

Abstract: Corporations file Form 973 to claim a deduction for dividends paid. If shareholders consent and IRS approves, the corporation may claim a deduction for dividends paid, which reduces the corporation's tax liability. IRS uses Form 973 to determine if shareholders have included the dividend in gross income.

Affected Public: Private Sector: Businesses and other for-profits.

Estimated Annual Burden Hours: 2,210.

OMB Number: 1545-0045.

Type of Review: Extension without change of a currently approved collection.

Title: Claim for Deficiency Dividends Deductions by a Personal Holding Company, Regulated Investment Company, or Real Estate Investment Trust.

Form: 976.

Abstract: Form 976 is filed by corporations that wish to claim a deficiency dividend deduction. The deduction allows the corporation to eliminate all or a portion of a tax deficiency. The IRS uses Form 976 to determine if shareholders have included amounts in gross income.

Affected Public: Private Sector: Businesses and other for-profits.

Estimated Annual Burden Hours: 3,850.

OMB Number: 1545-0145.

Type of Review: Extension without change of a currently approved collection.

Title: Notice to Shareholder of Undistributed Long-Term Capital Gains.

Form: 2439.

Abstract: Form 2439 is sent by regulated investment companies and real estate investment trusts to report undistributed capital gains and the amount of tax paid on these gains designated under IRC section 852(b)(3)(D) or 857(b)(3)(D). The company, the trust, and the shareholder file copies of Form 2439 with IRS. IRS uses the information to check shareholder compliance.

Affected Public: Private Sector: Businesses and other for-profits.

Estimated Annual Burden Hours: 29,995.

OMB Number: 1545-0240.

Type of Review: Extension without change of a currently approved collection.

Title: Claim for Refund of Income Tax Return Preparer Penalties.

Form: 6118.

Abstract: Form 6118 is used by preparers to file for a refund of penalties incorrectly charged. The information enables the IRS to process the claim and have the refund issued to the tax return preparer.

Affected Public: Individuals or Households.

Estimated Annual Burden Hours: 11,400.

OMB Number: 1545-0429.

Type of Review: Extension without change of a currently approved collection.

Title: Request for Copy of Tax Return.

Form: 4605.

Abstract: Title 26 USC 7513 allows for taxpayers to request a copy of a tax return. Form 4506 is used by a taxpayer to request a copy of a Federal tax form. The information provided will be used for research to locate the tax form and to ensure that the requester is the taxpayer or someone authorized by the taxpayer.

Affected Public: Individuals or Households.

Estimated Annual Burden Hours: 260,000.

OMB Number: 1545-0746.

Type of Review: Extension without change of a currently approved collection.

Title: LR-100-78 (Final) Creditability of Foreign Taxes.

Abstract: The information needed is a statement by the taxpayer that it has elected to apply the safe harbor formula of section 1.901-2A(e) of the foreign tax credit regulations. This statement is necessary in order that the IRS may properly determine the taxpayer's tax liability.

Affected Public: Private Sector: Businesses or other for-profits, farms.

Estimated Annual Burden Hours: 37.

OMB Number: 1545-0755.

Type of Review: Extension without change of a currently approved collection.

Title: TD 7959—Related Group Election With Respect to Qualified Investments in Foreign Base Company Shipping Operations.

Abstract: The election described in the attached justification converted an annual election to an election effective until revoked. The computational information required is necessary to assure that the U.S. shareholder correctly reports any shipping income of its controlled foreign corporations which is taxable to that shareholder.

Affected Public: Private Sector: Businesses and other for-profits.

Estimated Annual Burden Hours: 205.

OMB Number: 1545-0956.

Type of Review: Revision of a currently approved collection.

Title: Annual Return of One-Participant (Owners and Their Spouses) Retirement Plan.

Form: 5500-EZ.

Abstract: Form 5500-EZ is an annual return filed by a one-participant or one-participant and spouse pension plan. The IRS uses this data to determine if the plan appears to be operating properly as required under the law or whether the plan should be audited.

Affected Public: Private Sector: Businesses and other for-profits.

Estimated Annual Burden Hours: 7,005,000.

OMB Number: 1545-1098.

Type of Review: Extension without change of a currently approved collection.

Title: Arbitrage Restrictions on Tax-Exempt Bonds TD 8418 Final (FI-91-86; FI-90-86; FI-90-91; and FI-1-90).

Abstract: This regulation requires state and local governmental issuers of tax-exempt bonds to rebate arbitrage profits earned on non-purpose investments acquired with the bond proceeds. Issuers are required to submit a form with the rebate. The regulations provide for several elections, all of which must be in writing.

Affected Public: State, Local, and Tribal Governments.

Estimated Annual Burden Hours: 8,550.

OMB Number: 1545-1224.

Type of Review: Extension without change of a currently approved collection.

Title: INTL-112-88 (Final) Allocation and Apportionment of Deduction for State Income Taxes.

Abstract: This regulation provides guidance on when and how the deduction for state income taxes is to be allocated and apportioned between gross income from sources within and without the United States in order to determine the amount of taxable income from those sources. The reporting requirements in the regulation affect those taxpayers claiming foreign tax credits who elect to use an alternative method from that described in the regulation to allocate and apportion deductions for state income taxes.

Affected Public: Private Sector: Businesses and other for-profits.

Estimated Annual Burden Hours: 1,000.

OMB Number: 1545-1452.

Type of Review: Extension without change of a currently approved collection.

Title: FI-43-94 (TD 8649—Final) Regulations Under Section 1258 of the Internal Revenue Code of 1986; Netting Rule for Certain Conversion Transactions.

Abstract: Section 1258 recharacterizes capital gains from conversion transactions as ordinary income to the extent of the time value element. This regulation provides that certain gains and losses may be netted for purposes of determining the amount of gain recharacterized.

Affected Public: Private Sector: Businesses and other for-profits.

Estimated Annual Burden Hours: 5,000.

OMB Number: 1545-1455.

Type of Review: Extension without change of a currently approved collection.

Title: PS-80-93 (TD 8645—Final) Rules for Certain Rental Real Estate Activities.

Abstract: The regulation provides rules relating to the treatment of rental real estate activities of certain taxpayers under the passive activity loss and credit limitations on Internal Revenue Code section 469.

Affected Public: Individuals or Households.

Estimated Annual Burden Hours: 3,015.

OMB Number: 1545-1459.

Type of Review: Extension without change of a currently approved collection.

Title: Program Sponsor Agreement for Continuing Education for Enrolled Agents.

Form: 8498.

Abstract: This information relates to the approval of continuing professional education programs for the individuals enrolled to practice before the Internal Revenue Service (enrolled agents).

Affected Public: Individuals or Households.

Estimated Annual Burden Hours: 300.

OMB Number: 1545-1507.

Type of Review: Extension without change of a currently approved collection.

Title: TD 8701—Treatment of Shareholders of Certain Passive Investment Companies.

Abstract: The reporting requirements affect U.S. persons that are direct and indirect shareholders of passive foreign investment companies (PFICs). The IRS uses Form 8621 to identify PFICs, U.S. persons that are shareholders and transactions subject to PFIC taxation and to verify income inclusions, excess distributions and deferred tax amounts.

Affected Public: Private Sector: Businesses and other for-profits.

Estimated Annual Burden Hours: 100,000.

OMB Number: 1545-1534.

Type of Review: Extension without change of a currently approved collection.

Title: REG-252936-96 (TD 8780—Final) Rewards for Information Relating to Violations of Internal Revenue Laws.

Abstract: The regulations relate to rewards for information that results in the detection and punishment of violations of the Internal Revenue Laws.

Affected Public: Individuals or Households.

Estimated Annual Burden Hours: 30,000.

OMB Number: 1545-1551.

Type of Review: Extension without change of a currently approved collection.

Title: Changes in Methods of Accounting (RP 2011-14).

Abstract: This revenue procedure (2011-14) provides the procedures by which a taxpayer may obtain automatic consent for a change in method of accounting described in the Appendix of this revenue procedure. This revenue procedure amplifies, clarifies, modifies, and supersedes Rev. Proc. 2008-52, 2008-2 C.B. 587, as amplified, clarified, and modified by Rev. Proc. 2009-39, 2009-38 I.R.B. 371, and provides additional changes in methods of accounting for which a taxpayer may obtain automatic consent.

Affected Public: Private Sector: Businesses and other for-profits, Not-for-profit institutions, Farms.

Estimated Annual Burden Hours: 15,359.

OMB Number: 1545-1555.

Type of Review: Extension without change of a currently approved collection.

Title: REG-115795-97 (Final) General Rules for Making and Maintaining Qualified Electing Fund Elections.

Abstract: The regulations provide rules for making section 1295 elections and satisfying annual reporting requirements for such elections, revoking section 1295 elections, and making retroactive section 1295 elections.

Affected Public: Private Sector: Businesses and other for-profits.

Estimated Annual Burden Hours: 623.

OMB Number: 1545-1556.

Type of Review: Extension without change of a currently approved collection.

Title: TD 8786—Source of Income From Sales of Inventory Partly From Sources Within a Possession of the United States; Source of Income Derived From Certain Purchases from a Corporation Electing Section 936.

Abstract: The information requested in section 1.863-3(f)(6) is necessary for the Service to audit taxpayers' return to ensure taxpayers are properly determining the source of their income.

Affected Public: Private Sector: Businesses and other for-profits.

Estimated Annual Burden Hours: 500.

OMB Number: 1545-1559.

Type of Review: Extension without change of a currently approved collection.

Title: Revenue Procedures 98-46 and 97-44, LIFO Conformity Requirement.

Abstract: Revenue Procedure 97-44 permits automobile dealers that comply with the terms of the revenue procedure to continue using the LIFO inventory method despite previous violations of the LIFO conformity requirements of section 472(c) or (e)(2). Revenue Procedure 98-46 modifies Revenue Procedure 97-44 by allowing medium-and heavy-duty truck dealers to take advantage of the favorable relief provided in Revenue Procedure 97-44.

Affected Public: Private Sector: Businesses and other for-profits.

Estimated Annual Burden Hours: 100,000.

OMB Number: 1545-1583.

Type of Review: Extension without change of a currently approved collection.

Title: REG-209322-82 (TD 8841—Final), Return of Partnership Income.

Abstract: Information is required to enable the IRS to verify that a taxpayer is reporting the correct amount of income or gain or claiming the correct amount of losses, deductions, or credits from that taxpayer's interest in the partnership.

Affected Public: Private Sector: Businesses and other for-profits.

Estimated Annual Burden Hours: 1.

OMB Number: 1545-1700.

Type of Review: Extension without change of a currently approved collection.

Title: Qualified Subchapter S Subsidiary Election.

Form: 8869.

Abstract: Effective for tax years beginning after December 31, 1996, Internal Revenue Code section 1361(b)(3) allows an S corporation to own a corporate subsidiary, but only if it is wholly owned. To do so, the parent S corporation must elect to treat the wholly owned subsidiary as a qualified subchapter S subsidiary (QSub). Form 8869 is used to make this election.

Affected Public: Private Sector: Businesses and other for-profits.

Estimated Annual Burden Hours: 40,750.

OMB Number: 1545-1704.

Type of Review: Extension without change of a currently approved collection.

Title: Revenue Procedure 200-41—Change in Minimum Funding Method.

Abstract: This revenue procedure provides a mechanism whereby a plan sponsor or plan administrator may obtain a determination from the Internal Revenue Service that its proposed change in the method of funding its pension plan(s) meets the standards of section 412 of the Internal Revenue Code.

Affected Public: Private Sector: Businesses and other for-profits.

Estimated Annual Burden Hours: 5,400.

OMB Number: 1545-1706.

Type of Review: Extension without change of a currently approved collection.

Title: TD 9315—Section 1503(d) Closing Agreement Requests.

Abstract: Revenue Procedure 2000-42 informs taxpayers of the information they must submit to request a closing agreement under Reg. S1.1503-2(g)(2)(iv)(B)(2)(i) to prevent the recapture of dual consolidated losses (DCLs) upon the occurrence of certain triggering events. TD 9315 contains regulations under section 1503(d) of the Internal Revenue Code (Code) regarding dual consolidated losses. Section 1503(d) generally provides that a dual consolidated loss of a dual resident corporation cannot reduce the taxable income of any other member of the affiliated group unless, to the extent provided in regulations, the loss does not offset the income of any foreign corporation. Similar rules apply to losses of separate units of domestic corporations. These regulations address various dual consolidated loss issues, including exceptions to the general prohibition against using a dual consolidated loss to reduce the taxable income of any other member of the affiliated group.

Affected Public: Private Sector: Businesses and other for-profits.

Estimated Annual Burden Hours: 2,000.

OMB Number: 1545-1718.

Type of Review: Extension without change of a currently approved collection.

Title: REG-106030-98 (TD 9305—Final) Source of Income from Certain Space and Ocean Activities; Also, Source of Communications Income.

Abstract: This document contains regulations under section 863(d) governing the source of income from certain space and ocean activities. It also contains regulations under section 863(a), (d), and (e) governing the source of income from certain communications activities. In addition, this document contains final regulations under section 863(a) and (b), amending the regulations in § 1.863-3 to conform those regulations to these final regulations. These regulations primarily affect persons who derive income from activities conducted in space, or on or under water not within the jurisdiction of a foreign country, possession of the United States, or the United States (in international water). The regulations also affect persons who derive income from transmission of communications.

Affected Public: Private Sector: Businesses and other for-profits.

Estimated Annual Burden Hours: 1,250.

OMB Number: 1545-1817.

Type of Review: Extension without change of a currently approved collection.

Title: Application for United States Residency Certification.

Form: 8802.

Abstract: All requests for U.S. residency certification must be received on Form 8802, Application for United States Residency Certification. This application must be sent to the Philadelphia Service Center. As proof of residency in the United States and of entitlement to the benefits of a tax treaty, U.S. treaty partner countries require a U.S. Government certification that you are a U.S. citizen, U.S. corporation, U.S. partnership, or resident of the United States for purposes of taxation.

Affected Public: Individual or Households.

Estimated Annual Burden Hours: 363,000.

OMB Number: 1545-1966.

Type of Review: Extension without change of a currently approved collection.

Title: TD 9263 (Final) Income Attributable to Domestic Production Activities.

Abstract: This document contains final regulations concerning the deduction for income attributable to domestic production activities under section 199 of the Internal Revenue Code. Section 199 was enacted as part of the American Jobs Creation Act of 2004 (Act). The regulations will affect taxpayers engaged in certain domestic production activities.

Affected Public: Private Sector: Businesses or other for-profits.

Estimated Annual Burden Hours: 9,000.

OMB Number: 1545-1981.

Type of Review: Revision of a currently approved collection.

Title: Alternative Fuel Vehicle Refueling Property Credit.

Form: 8911.

Abstract: IRC section 30C allows a credit for alternative fuel vehicle refueling property. Form 8911 will be used by taxpayers to claim the credit.

Affected Public: Private Sector: Businesses or other for-profits.

Estimated Annual Burden Hours: 3,420,759.

OMB Number: 1545-2028.

Type of Review: Extension without change of a currently approved collection.

Title: Notice 2008-33—Fuel Cell Motor Vehicle Credit.

Abstract: This notice sets forth interim guidance, pending the issuance of regulations, relating to the new fuel cell motor vehicle credit under § 30B(a)(1) and (b) of the Internal Revenue Code.

Affected Public: Private Sector: Businesses or other for-profits.

Estimated Annual Burden Hours: 200.

OMB Number: 1545-2031.

Type of Review: Extension without change of a currently approved collection.

Title: TD 9365—Railroad Track Maintenance Credit.

Abstract: This document contains regulations that provide rules for claiming the railroad track maintenance credit under section 45G of the Internal Revenue Code for qualified railroad track maintenance expenditures paid or incurred by a Class II or Class III railroad and other eligible taxpayers during the taxable year. These regulations reflect changes to the law made by the American Jobs Creation Act of 2004 and the Gulf Opportunity Zone Act of 2005.

Affected Public: Private Sector: Businesses or other for-profits.

Estimated Annual Burden Hours: 1,375.

OMB Number: 1545-2156.

Type of Review: Extension without change of a currently approved collection.

Title: Revenue Procedure 2010-13, Disclosure of Activities Grouped under Section 469.

Abstract: This revenue procedure requires taxpayers to report to the Internal Revenue Service their groupings and regroupings of activities and the addition of specific activities within their existing groupings of activities for purposes of section 469 of the Internal Revenue Code and § 1.469-4 of the Income Tax Regulations.

Affected Public: Private Sector: Businesses or other for-profits.

Estimated Annual Burden Hours: 39,000.

OMB Number: 1545-2159.

Type of Review: Extension without change of a currently approved collection.

Title: Notice Concerning Fiduciary Relationship of Financial Institution.

Form: 56-F.

Abstract: The filing of Form 56-F by a fiduciary (FDIC or other federal agency acting as a receiver or conservator of a failed financial institution (bank or thrift) gives the IRS the necessary information to submit send letters, notices, and notices of tax liability to the federal fiduciary now in charge of the financial institution rather than sending the notice, etc. to the institution's last known address.

Affected Public: Private Sector: Businesses or other for-profits.

Estimated Annual Burden Hours: 997.

Dawn D. Wolfgang,
Treasury PRA Clearance Officer.

[FR Doc. 2013-15263 Filed 6-25-13; 8:45 am]

BILLING CODE 4830-01-P